FEDERAL COMMUNICATIONS COMMISSION

47 CFR Part 25

[IB Docket No. 13-213; FCC 16-181]

Terrestrial Use of the 2473-2495 MHz Bands for Low-Power Mobile Broadband Networks; Amendments to Rules for the Ancillary Terrestrial Component of Mobile Satellite Service Systems

AGENCY: Federal Communications Commission.

ACTION: Final rule; announcement of effective date.

SUMMARY: In this document, the Commission announces that the Office of Management and Budget (OMB) has approved, for a period of three years, the information collection associated with the Commission's Terrestrial Use of the 2473-2495 MHz bands for Low-Power Mobile Broadband Networks; Amendments to Rules for the Ancillary Terrestrial Component of Mobile Satellite Service Systems Report and Order's (Order) modified rules for the operation of an Ancillary Terrestrial Component. This document is consistent with the Order, which stated that the Commission would publish a document in the Federal Register announcing the effective date of those rules.

DATES: The amendments to 47 CFR 25.149 published at 82 FR 8814, January 31, 2017, are effective December 14, 2017.

FOR FURTHER INFORMATION CONTACT: Stephen Duall, Satellite Division, International Bureau, at 202-418-1103 or via email at Stephen.Duall@fcc.gov.

SUPPLEMENTARY INFORMATION: This document announces that, on June 28, 2017, OMB approved, for a period of three years, the information collection requirements relating to the access stimulation rules contained in the Commission's Order, FCC 16-181, published at 82 FR 8814, January 31, 2017. The OMB Control Number is 3060-0994. The Commission publishes this document as an announcement of the effective date of the rules. If you have any comments on the burden estimates listed below, or how the Commission can improve the collections and reduce any burdens caused thereby, please contact Cathy Williams, Federal Communications Commission, Room 1-C823, 445 12th Street SW, Washington, DC 20554. Please include the OMB Control Number, 3060-0298, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

SYNOPSIS

As required by the Paperwork Reduction Act of 1995 (44 U.S.C. 3507), the FCC is notifying the public that it received final OMB approval on June 28, 2017, for the information collection requirements contained in the modifications to the Commission's rules in 47 CFR part 25.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0994.

The foregoing notice is required by the Paperwork Reduction Act of 1995, Public Law 104-13, October 1, 1995, and 44 U.S.C. 3507.

The total annual reporting burdens and costs for the respondents are as follows:

OMB Control Number: 3060-0994.

OMB Approval Date: June 28, 2017.

OMB Expiration Date: June 30, 2020.

Title: Flexibility for Delivery of Communications by Mobile Satellite Service Providers in the 2 GHz Band, the L Band, and the 1.6/2.4 GHz Band.

Form Number: N/A.

Respondents: Business or other for-profit entities.

Number of Respondents and Responses: 126 respondents; 126 responses.

Estimated Time per Response: Between 0.5-50 hours.

Frequency of Response: One-time, annual, and on-occasion reporting requirements, third party disclosure and recordkeeping requirements.

Obligation to Respond: Required to obtain or retain benefits. The statutory authority for this information collection is contained in sections 4(i), 7, 302, 303(c), 303(e), 303(f) and 303(r) of the Communications Act of 1934, as amended, 47 U.S.C. 154(i), 157, 302, 303(c), 303(e), 303(f) and 303(r).

Total Annual Burden: 520 hours.

Total Annual Cost: $530,340.

Nature and Extent of Confidentiality: An assurance of confidentiality is not offered because this information collection does not require the collection of personally identifiable information (PII) from individuals.

Privacy Act: No impact(s).

Needs and Uses: On December 23, 2016, the Commission released a Report and Order in IB Docket No. 13-213, FCC 16-181, titled “Terrestrial Use of the 2473-2495 MHz Band for Low-Power Mobile Broadband Networks; Amendments to Rules for the Ancillary Terrestrial Component of Mobile Satellite Service Systems.” The revisions to 47 CFR part 25 adopted in the Report and Order remove a portion of the information collection requirements as it relates to a newly proposed low power broadband network, as described in document FCC 16-181. These revisions enable ATC licensees to operate low-power ATC using licensed spectrum in the 2483.5-2495 MHz band. Although the original low-power ATC proposal described the use of the adjacent 2473-2483.5 MHz band, low-power terrestrial operations at 2473-2483.5 MHz were not authorized by the Report and Order. The revisions provide an exception for low-power ATC from the requirements contained in § 25.149(b) of the Commission's rules, which require detailed showings concerning satellite system coverage and replacement satellites. The revisions also provide an exception from a rule requiring integrated service, which generally requires that service handsets be capable of communication with both satellites and terrestrial base stations. Accordingly, the provider of low-power ATC would be relieved from certain burdens that are currently in place in the existing information collection. To qualify for authority to deploy a low-power terrestrial network in the 2483.5-2495 MHz band, an ATC licensee would need to certify that it will utilize a Network Operating System to manage its terrestrial low-power network. Although the Report and Order also created new technical requirements for equipment designed to communicate with a low-power ATC network, satisfaction of these technical requirements relieves ATC licensees from meeting other technical requirements that apply to ATC systems generally. We also had a revision to this information collection to reflect the elimination of the elements of this information collection for 2 GHz MSS. See 78 FR 48621-22.

The purposes of the existing information collection are to obtain information necessary for licensing operators of Mobile-Satellite Service (MSS) networks to provide ancillary services in the U.S. via terrestrial base stations (Ancillary Terrestrial Components, or ATCs); obtain the legal and technical information required to facilitate the integration of ATCs into MSS networks in the L-Band and the 1.6/2.4 GHz Bands; and to ensure that ATC licensees meet the Commission's legal and technical requirements to develop and maintain their MSS networks and operate their ATC systems without causing harmful interference to other radio systems.

Federal Communications Commission.
Marlene H. Dortch,
Secretary.

[FR Doc. 2017-26943 Filed 12-13-17; 8:45 am]

BILLING CODE 6712-01-P